FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 15, 2013.

A. Federal Reserve Bank of Atlanta (Chapelle Davis, Assistant Vice President) 1000 Peachtree Street NE., Atlanta, Georgia 30309:

1. Harvey Alan Sorkin, Palm Beach Gardens, Florida; to acquire at least 10 percent of the voting shares of Floridian Community Holdings, Inc., and thereby indirectly acquire voting shares of Floridian Community Bank, Inc., both of Davie, Florida.

B. Federal Reserve Bank of Minneapolis (Jacqueline G. King, Community Affairs Officer) 90 Hennepin Avenue, Minneapolis, Minnesota 55480-0291:

1. Connie Jean Lonneman, Adrian, Minnesota, individually and as proposed co-trustee; to acquire voting shares of the First State Bank Southwest 2010 Amended and Restated KSOP Plan and Trust, and thereby indirectly acquire voting shares of First Rushmore Bancorporation, Inc., Worthington, Minnesota, and First State Bank Southwest, Pipestone, Minnesota.

Board of Governors of the Federal Reserve System, April 25, 2013.
Margaret McCloskey Shanks,
Deputy Secretary of the Board.

[FR Doc. 2013-10115 Filed 4-29-13; 8:45 am]

BILLING CODE 6210-01-P